DEPARTMENT OF ENERGY

Federal Energy Regulatory Commission

Combined Notice of Filings #1

Take notice that the Commission received the following electric rate filings:

Docket Numbers: ER11-3987-017; ER11-4055-012; ER12-1566-016; ER12-2051-003; ER12-2499-022; ER13-764-022; ER14-1548-015; ER14-1775-010; ER14-1927-010; ER12-2498-022; ER16-1325-005; ER16-1326-005; ER16-1327-005; ER17-382-007; ER17-383-007; ER17-384-007; ER17-2141-005; ER17-2142-005; ER17-2385-003; ER18-855-006; ER18-1416-006.

Applicants: CED Wistaria Solar, LLC, Panoche Valley Solar, LLC, Great Valley Solar 3, LLC, Great Valley Solar 2, LLC, Great Valley Solar 1, LLC, CED Ducor Solar 3, LLC, CED Ducor Solar 2, LLC, CED Ducor Solar 1, LLC, Copper Mountain Solar 4, LLC , Mesquite Solar 3, LLC, Mesquite Solar 2, LLC, Alpaugh 50, LLC, CED White River Solar 2, LLC, SEP II, LLC, Copper Mountain Solar 3, LLC, CED White River Solar, LLC, Alpaugh North, LLC, SPS Alpaugh 50, LLC, Copper Mountain Solar 2, LLC, Copper Mountain Solar 1, LLC, Mesquite Solar 1, LLC.

Description: Triennial Market Power Analysis for Southwest Region of Mesquite Solar 1, LLC, et al.

Filed Date: 9/8/22.

Accession Number: 20220908-5156.

Comment Date: 5 p.m. ET 11/7/22.

Docket Numbers: ER21-2816-003.

Applicants: Gratiot County Wind LLC.

Description: Compliance filing: Compliance Filing of Reactive Power Rate Schedule to be effective 11/1/2021.

Filed Date: 9/9/22.

Accession Number: 20220909-5104.

Comment Date: 5 p.m. ET 9/30/22.

Docket Numbers: ER22-1014-002; EL22-15-001.

Applicants: New York Power Authority, Power Authority of the State of New York, New York Independent System Operator, Inc.

Description: New York Power Authority Compliance Filing as required by FERC's March 11 and July 5, 2022 Orders.

Filed Date: 9/8/22.

Accession Number: 20220908-5154.

Comment Date: 5 p.m. ET 9/29/22.

Docket Numbers: ER22-2158-001.

Applicants: Public Service Company of New Mexico.

Description: Tariff Amendment: PNM Response to August 12, 2022. Deficiency Letter to be effective 6/22/2022.

Filed Date: 9/9/22.

Accession Number: 20220909-5049.

Comment Date: 5 p.m. ET 9/30/22.

Docket Numbers: ER22-2818-000.

Applicants: PJM Interconnection, L.L.C.

Description: § 205(d) Rate Filing: ISA, SA No. 6594; Queue No. AE2-334 & AG1-103 to be effective 9/9/2022.

Filed Date: 9/8/22.

Accession Number: 20220908-5103.

Comment Date: 5 p.m. ET 9/29/22.

Docket Numbers: ER22-2819-000.

Applicants: PJM Interconnection, L.L.C.

Description: § 205(d) Rate Filing: Original NSA, SA No. 6593; Queue No. AC1-053 to be effective 8/9/2022.

Filed Date: 9/8/22.

Accession Number: 20220908-5105.

Comment Date: 5 p.m. ET 9/29/22.

Docket Numbers: ER22-2821-000.

Applicants: PJM Interconnection, L.L.C.

Description: § 205(d) Rate Filing: Amendment to WMPA, Service Agreement No. 6365; Queue No. AE2-309 to be effective 1/17/2022.

Filed Date: 9/9/22.

Accession Number: 20220909-5033.

Comment Date: 5 p.m. ET 9/30/22.

Docket Numbers: ER22-2822-000.

Applicants: PJM Interconnection, L.L.C.

Description: § 205(d) Rate Filing: Original WMPA, SA No. 6599; Queue No. AG1-045 to be effective 8/26/2022.

Filed Date: 9/9/22.

Accession Number: 20220909-5058.

Comment Date: 5 p.m. ET 9/30/22.

Docket Numbers: ER22-2823-000.

Applicants: Southern California Edison Company.

Description: Tariff Amendment: Second Amend LGIA, Antelope 2 Solar-Terminate eTariff Record (TOT762—SA195) to be effective 9/10/2022.

Filed Date: 9/9/22.

Accession Number: 20220909-5064.

Comment Date: 5 p.m. ET 9/30/22.

Docket Numbers: ER22-2824-000.

Applicants: Yellow Pine Solar, LLC.

Description: Baseline eTariff Filing: Yellow Pine Solar, LLC Application for Market-Based Rate Authorization to be effective 11/9/2022.

Filed Date: 9/9/22.

Accession Number: 20220909-5078.

Comment Date: 5 p.m. ET 9/30/22.

Docket Numbers: ER22-2825-000.

Applicants: PJM Interconnection, L.L.C.

Description: § 205(d) Rate Filing: Original WMPA SA No. 6608; Queue No. AH1-109 to be effective 8/10/2022.

Filed Date: 9/9/22.

Accession Number: 20220909-5087.

Comment Date: 5 p.m. ET 9/30/22.

Docket Numbers: ER22-2826-000.

Applicants: Avista Corporation.

Description: § 205(d) Rate Filing: Avista Corp LTF PTP Agreement T-1197 to be effective 11/1/2022.

Filed Date: 9/9/22.

Accession Number: 20220909-5099.

Comment Date: 5 p.m. ET 9/30/22.

Docket Numbers: ER22-2827-000.

Applicants: Bluegrass Solar, LLC.

Description: Baseline eTariff Filing: Baseline new to be effective 9/12/2022.

Filed Date: 9/9/22.

Accession Number: 20220909-5142.

Comment Date: 5 p.m. ET 9/30/22.

Docket Numbers: ER22-2828-000.

Applicants: Duke Energy Florida, LLC.

Description: § 205(d) Rate Filing: DEF-Bartow NITSA to be effective 9/1/2022.

Filed Date: 9/9/22.

Accession Number: 20220909-5143.

Comment Date: 5 p.m. ET 9/30/22.

Take notice that the Commission received the following qualifying facility filings:

Docket Numbers: QF22-914-000.

Applicants: Bloom Energy Corporation.

Description: Form 556 of Bloom Energy Corporation [Kaiser Santa Rosa].

Filed Date: 9/8/22.

Accession Number: 20220908-5130.

Comment Date: 5 p.m. ET 9/29/22.

Docket Numbers: QF22-915-000.

Applicants: Bloom Energy Corporation.

Description: Form 556 of Bloom Energy Corporation [Yale-New Haven].

Filed Date: 9/8/22.

Accession Number: 20220908-5149.

Comment Date: 5 p.m. ET 9/29/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 9, 2022.
Debbie-Anne A. Reese,
Deputy Secretary.

[FR Doc. 2022-19970 Filed 9-14-22; 8:45 am]

BILLING CODE 6717-01-P